DEPARTMENT OF ENERGY

Federal Energy Regulatory Commission

[ Project No. 6440-008]

Lakeport Hydroelectric Associates, Lakeport Hydroelectric Corporation, Lakeport Hydroelectric One, LLC; Notice of Application for Transfer of License, and Soliciting Comments and Motions To Intervene

On April 4, 2013, Lakeport Hydroelectric Associates and Lakeport Hydroelectric Corporation (transferors) and Lakeport Hydroelectric One, LLC (transferee) filed an application for the transfer of license for the Lakeport Project, FERC No. 6440, located on the Winnipesaukee River in Belknap County, New Hampshire.

Applicants seek Commission approval to transfer the license for the Lakeport Project from the transferors to the transferee.

Applicants' Contact: Shannon P. Coleman, Director, Legal Regulatory Strategy, Algonquin-Liberty Business Services, 2865 Bristol Circle, Oakville, ON, Canada L6H 6X5, telephone (905) 465-4462.

FERC Contact: Patricia W. Gillis (202) 502-8735, patricia.gillis@ferc.gov.

Deadline for filing comments and motions to intervene: 30 days from the issuance date of this notice by the Commission. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket number (P-6440) in the docket number field to access the document. For assistance, call toll-free 1-866-208-3372.

Dated: May 10, 2013.
Kimberly D. Bose,
Secretary.

[FR Doc. 2013-11658 Filed 5-15-13; 8:45 am]

BILLING CODE 6717-01-P